DEPARTMENT OF VETERANS AFFAIRS

Privacy Act of 1974; Amendment of Systems Notice; Modification of Routine Uses

AGENCY: Department of Veterans Affairs.

ACTION: Notice; amendment of system of records.

SUMMARY: As required by the Privacy Act of 1974, 5 U.S.C. 552(a)(E), notice is hereby given that the Department of Veterans Affairs (VA) is modifying the Routine Uses of this System of Records to add additional uses.

Notice is hereby given that VA is revising certain paragraphs in the system of records entitled “Workers” Compensation-Occupational Safety and Health/Management Information System—VA” (86VA00S1) which was recently published in the Federal Register at Volume 60, Number 60, on September 14, 2000. The Routine Uses are being revised to include additional purposes for which information from this System of Records may be disseminated without the consent of the individual. VA is republishing this system notice in its entirety at this time.

ADDRESSES: Written comments concerning the proposed amended system of records may be submitted through http://www.Regulations.gov; by mail or hand-delivery to Director, Regulations Management (02REG), Department of Veterans Affairs, 810 Vermont Avenue, NW., Room 1068, Washington, DC 20420; by fax to (202) 273-9026; or by e-mail to “VAregulations@mail.va.gov.” All comments received will be available for public inspection in the Office of Regulation Policy and Management, Room 1063B, between the hours of 8 a.m. and 4:30 p.m., Monday through Friday (except holidays). Please call (202) 273-9515 for an appointment. In addition, during the comment period, comments may be viewed online through the Federal Docket Management System (FDMS) at http://www.Regulations.gov.

FOR FURTHER INFORMATION CONTACT: Director, Occupational Safety and Health (00S1), Office of Administration, Department of Veterans Affairs, 810 Vermont Avenue, NW., Washington, DC 20420, 202-461-5021.

SUPPLEMENTARY INFORMATION: Background: VA developed the “Workers” Compensation-Occupational Safety and Health/Management Information System—VA” to facilitate the management of workers' compensation claims filed under the Federal Employment Compensation Act (FECA) which is administered by the U.S. Department of Labor, Office of Workers' Compensation Programs (OWCP). The data contained in the system is provided directly from periodic input via CD ROM from OWCP and uploaded into the system for use by VA workers' compensation staff to manage facility actions related to FECA claims.

Approved: July 21, 2008.
Gordon H. Mansfield,
Deputy Secretary of Veterans Affairs.

SYSTEM NUMBER:

86VA00S1.

SYSTEM NAME:

Workers' Compensation-Occupational Safety and Health/Management Information System—VA.

SYSTEM LOCATION:

Department of Veterans Affairs (VA) Austin Information Technology Center, Austin, Texas, and information in the database can be viewed and downloaded by employees with workers' compensation case management and safety responsibilities at VA employing facilities.

CATEGORIES OF INDIVIDUALS COVERED BY THE SYSTEM:

All VA and former VA employees who have incurred a job-related injury/disease and have an active claim file with the Office of Workers' Compensation Programs (OWCP).

CATEGORIES OF RECORDS IN THE SYSTEM:

Records in the system include the OWCP quarterly injury/disease chargeback reports, weekly Case Management File (CMF) Reports, weekly Automated Compensation Payment System (ACPS) Reports, weekly Bill Payment System (BPS) Reports, data on VA's continuation of pay (COP) costs, and some elements from the Personnel and Accounting Integrated Data System—VA. The computer data base records include the claimant's name, address, Social Security number, date of birth, grade, salary, telephone number, OWCP's case adjudication status (approved or denied, waiting adjudication, file sent to Hearings and Review for decision), accepted medical condition(s), compensation paid (amount and time period covered), medical bills paid (name of physician, hospital or health facility, type of treatment, date of treatment, amount paid, amount paid for medical equipment, and rehabilitation expenses), COP authorized or denied, dates COP is paid, number of days of COP, and total amount paid.

AUTHORITY FOR MAINTENANCE OF THE SYSTEM:

Public Law 91-596; 5 U.S.C. 8101 et seq.; and Federal Regulations 20 CFR part 10, 29 CFR part 1960, and 5 CFR ch. 1, part 353.

PURPOSE(S):

The information contained in this system of records is used to case manage each worker's compensation claim, to produce statistical management reports, monitor the case management performance of each VA employing facility, and produce statistical reports on the source and type of injuries occurring at each facility.

ROUTINE USES OF RECORDS MAINTAINED IN THE SYSTEM, INCLUDING CATEGORIES OF USERS AND THE PURPOSES OF SUCH USES:

1. Disclosure may be made to any third-party or representative acting on claimant's behalf until the claim is adjudicated, all appeal rights are resolved, and the case file is closed.

2. In the event that records in this system of records indicate a violation or potential violation of law, whether civil, criminal or regulatory in nature, and whether arising by general statute or particular program statute, or by regulation, rule or order issued pursuant thereto, the relevant records may be referred, as a routine use, to the appropriate agency, whether Federal, state, local or foreign, charged with the responsibility for investigating or prosecuting such violation or charged with enforcing or implementing the statute, or rule, regulation or order issued pursuant thereto.

3. VA may disclose information from this system of records to the Department of Justice (DOJ), either on VA's initiative or in response to DOJ's request for the information, after either VA or DOJ determines that such information is relevant to DOJ's representation of the United States or any of its components in legal proceedings before a court or adjudicative body, provided that, in each case, the agency also determines prior to disclosure that release of the records to the DOJ is a use of the information contained in the records that is compatible with the purpose for which VA collected the records. VA, on its own initiative, may disclose records in this system of records in legal proceedings before a court or administrative body after determining that the disclosure of the records to the court or administrative body is a use of the information contained in the records that is compatible with the purpose for which VA collected the records.

5. The record of an individual who is covered by a system of records may be disclosed to a Member of Congress, or a staff person acting for the Member, when the Member or staff person requests the record on behalf of and at the written request of the individual.

6. Disclosure may be made to the National Archives and Records Administration (NARA) and the General Services Administration (GSA) in records management inspections conducted under authority of Title 44, Chapter 29 of the U.S. Code.

7. Disclosure may be made to any source from which additional information is needed in order to properly make case management decisions. Disclosure of statistical data may be made to other VA facilities and Federal agencies.

8. Disclosure of relevant information may be made to individuals, organizations, private or public agencies, or other entities with whom VA has a contract or agreement or where there is a subcontract to perform such services as VA may deem practicable in order for the contractor, subcontractor, public or private agency, or other entity or individual with whom VA has a contract or agreement to perform the services of the contract or agreement.

9. VA may disclose on its own initiative any information in the system, except the names and home addresses of veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, or order issued pursuant thereto.

10. Disclosure to other Federal agencies may be made to assist such agencies in preventing and detecting possible fraud or abuse by individuals in their operations and programs.

11. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm.

POLICIES AND PRACTICES FOR STORING, RETRIEVING, ACCESSING, RETAINING, AND DISPOSING OF RECORDS IN THE SYSTEM:

STORAGE:

Paper documents and computer storage media.

RETRIEVABILITY:

Information is retrievable by the name of VA claimant, Social Security number, and OWCP case file number.

SAFEGUARDS:

Access to the WC-OSH/MIS database is restricted to OWCP Case Managers and Safety Officials. Paper records are maintained in a secured area with limited access. Access to data is by means of online (query) database or downloading with a personal computer and is restricted to authorized employees by means of unique user identification and passwords.

RETENTION AND DISPOSAL:

Records are destroyed 30 years after OWCP closes the claimant's case file. Records are destroyed by shredding or burning paper documents, or by erasing the magnetic media.

SYSTEM MANAGER(S) AND ADDRESS:

Deputy Assistant Secretary for Administration (03), Department of Veterans Affairs, 810 Vermont Avenue, NW., Washington, DC 20420.

NOTIFICATION PROCEDURES:

Employees desiring to know whether this system of records contains a record pertaining to them must submit a written request to VA's Human Resources Management Office of employment or to the office of last employment for former employees.

RECORD ACCESS PROCEDURES:

Employees seeking information regarding access to and contesting of VA records may write, call, or visit VA's Human Resources Management Office of Employment.

CONTESTING RECORD PROCEDURES:

See record access procedures above.

RECORDS SOURCE CATEGORIES:

Data tapes furnished by OWCP, data elements from the Personnel and Accounting Integrated Data System—VA, VA COP data, and VA employees.

[FR Doc. E8-17899 Filed 8-4-08; 8:45 am]

BILLING CODE 8320-01-P